DEPARTMENT OF HEALTH AND HUMAN SERVICES

Centers for Disease Control and Prevention

[30-Day-0920-09AU]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Preventing HIV Risk Behaviors among Hispanic Adolescents—New—National Center for HIV/AIDS, Viral Hepatitis, STD, and TB Prevention (NCHHSTP), Centers for Disease Control and Prevention (CDC).

Background and Brief Description

This project involves the development and evaluation of a streamlined version of Familias Unidas, a family-based intervention designed to prevent drug use and unsafe sex among Hispanic adolescents. Compared to non-Hispanic whites, Hispanic adolescents are highly vulnerable to acquiring HIV. Hispanic adolescents between the ages of 13 and 19 are five times more likely to be infected with HIV than are same-aged non-Hispanic whites (CDC-P, 2006). Hispanic adolescents report higher rates of unprotected sex at last intercourse than both non-Hispanic whites and African Americans. Compared to non-Hispanic whites and to African Americans, Hispanic 8th and 10th graders report the highest lifetime, annual, and 30-day prevalence rates of alcohol, cigarette, and licit or illicit drug use. Drug use and unsafe sexual behavior are risks for acquiring HIV.

Despite the urgent public health need to stop the progress of the HIV epidemic and to reduce health disparities in HIV infection, especially with regard to Hispanics, the largest and fastest growing minority group in the nation, Familias Unidas is the only published intervention found to be efficacious in preventing both drug use and unsafe sexual behavior. Familias Unidas has demonstrated efficacy in an intensive, 9 to 12 month version in two previous studies in preventing drug use and unsafe sexual behavior relative to two attention control conditions. Labor-intensive interventions are difficult to disseminate to the larger community. Consequently, there is an urgent need to develop and test a streamlined version that can be more easily disseminated to the population. Therefore, the specific aim of the proposed study is to evaluate a streamlined version of Familias Unidas. Findings from this study will strengthen CDC's HIV/AIDS behavioral intervention portfolio by creation of an effective behavioral intervention designed specifically for Hispanic adolescents which it currently lacks.

Approximately 400 dyads of Hispanic adolescents and their primary caregivers (a total of 800 people), recruited through two high schools in Miami-Dade County, will be screened for study eligibility in a short interview lasting approximately three minutes. Based on the investigators' prior research, approximately 240 dyads of Hispanic adolescents and their primary caregivers (a total of 480 people) will be deemed eligible for the study. Each of the eligible dyads will be placed into one of two groups: (1) The streamlined 5-session intervention and (2) a control group which receives standard HIV/AIDS prevention information from the high schools. Adolescents and caregivers from both groups will respond to computerized questionnaires (ACASI) containing questions about family functioning, HIV/AIDS risk behaviors and substance abuse, etc. Adolescents will spend approximately 60 minutes completing the questionnaires, while their primary caregivers will complete the questionnaires in approximately 45 minutes. They will complete these questionnaires twice annually during the two-year period. There is no cost to the respondents other than their time. The average annual burden is estimated to be 940 hours.

Estimate of Annualized Burden Hours

Respondents | Form name | Number of respondents | Number of responses per respondent | Average burden per respondent (in hours)
Hispanic Adolescents Primary Caregivers | Recruitment Phone Script | 400 | 1 | 9/60
Hispanic Adolescents and Primary Caregivers | Caregiver and Adolescent Screening Form | 800 | 1 | 3/60
Primary Caregivers of Hispanic Adolescents | Parent Assessment Battery | 240 | 2 | 45/60
Hispanic Adolescents | Adolescent Assessment Battery | 240 | 2 | 1

Dated: July 20, 2010.
Maryam I. Daneshvar,
Reports Clearance Officer, Centers for Disease Control and Prevention.

[FR Doc. 2010-18274 Filed 7-26-10; 8:45 am]

BILLING CODE P